DEPARTMENT OF TRANSPORTATION

Federal Aviation Administration

14 CFR Part 39

[Docket No. FAA-2015-7533; Directorate Identifier 2015-NM-080-AD]

RIN 2120-AA64

Airworthiness Directives; Airbus Airplanes

AGENCY: Federal Aviation Administration (FAA), DOT.

ACTION: Notice of proposed rulemaking (NPRM).

SUMMARY: We propose to adopt a new airworthiness directive (AD) for certain Airbus Model A330-200 and -300 series airplanes, Model A330-200 Freighter series airplanes, and Airbus Model A340-541 and A340-642 airplanes. This proposed AD was prompted by a report of an under-torqued forward engine mount bolt. This proposed AD would require a one-time torque check of the forward and aft engine mount bolts, and corrective actions if necessary. We are proposing this AD to detect and correct improperly torqued engine mount bolts, which could lead to detachment of the engine from the airplane during flight; and consequent damage to the airplane and injury to persons on the ground.

DATES: We must receive comments on this proposed AD by February 12, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-7533; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Comments Invited

We invite you to send any written relevant data, views, or arguments about this proposed AD. Send your comments to an address listed under the ADDRESSES section. Include “Docket No. FAA-2015-7533; Directorate Identifier 2015-NM-080-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency, which is the Technical Agent for the Member States of the European Union, has issued EASA Airworthiness Directive 2015-0082, dated May 11, 2015 (referred to after this as the Mandatory Continuing Airworthiness Information, or “the MCAI”), to correct an unsafe condition on certain Airbus Model A330-200 and -300 series airplanes, Model A330-200 Freighter series airplanes, and Airbus Model A340-541 and A340-642 airplanes. The MCAI states:

In 2013, during a pre-delivery test on an A330 aeroplane fitted with Pratt & Whitney (PW) PW4170 engines, an issue with N1 vibrations level on [engine] ENG1 was identified. While performing an engine removal, one forward engine mount bolt was found improperly torqued. The investigation concluded this was due to a production line engine installation quality issue. Further analysis showed that some aeroplanes, delivered between June 2006 and January 2014, may have had the rear (AFT) and forward (FWD) engine mount bolts improperly torqued.

This condition, if not detected and corrected, could ultimately lead to an in-flight detachment of the engine from the aeroplane, possibly resulting in damage to the aeroplane and/or injury to persons on the ground.

Prompted by these findings, Airbus issued four Alert Operators Transmissions (AOT) A71L004-14 (for A330 aeroplanes fitted Pratt & Whitney (PW) engines), AOT A71L006-14 (for A330 aeroplanes fitted with General Electric (GE) engines), AOT A71L005-14 (for A330 aeroplanes fitted with Rolls Royce (RR) Trent 700 engines) and AOT A71L008-14 (for A340 aeroplanes fitted with RR Trent 500 engines) to provide torque check instructions.

For the reasons described above, this [EASA] AD requires a one-time torque check of the FWD and AFT engine mount bolts and, depending on findings, [corrective actions] re-torque of the affected bolt(s) and/or replacement of all four bolts and associated nuts.

Findings (or discrepancies) include one bolt that is loose or able to rotate, two or more bolts that are loose or able to rotate, or one or more pylon bolts that are fully broken. Corrective actions include re-torqueing the affected bolt(s), and replacing all bolts and associated nuts with new bolts and nuts on the engine where the loose or fully broken bolt(s) were detected. This proposed AD specifies reporting of all findings (including no discrepancies). The corrective actions include re-torqueing loose bolts before further flight. The compliance times for replacing loose or fully broken bolts ranges, depend on airplane configuration, and range from before further flight if more than one bolt rotates or is fully broken to no later than 2,350 flight cycles or 24,320 flight hours since first flight of the airplane, if only one bolt rotates. You may examine the MCAI in the AD docket on the Internet at http://www.regulations.gov by searching for and locating Docket No. FAA-2015-7533.

Related Service Information Under 1 CFR Part 51

We have reviewed the following service information.

• Airbus AOT A71L004-14, Revision 01, dated April 7, 2014. The service information describes procedures for doing a one-time torque check to determine if there are any loose or fully broken engine mount pylon bolts at four positions at the forward engine pylon 1 and pylon 2 of Airbus Model A330 series airplanes having Pratt and Whitney engines, doing corrective actions, and reporting all findings.

• Airbus AOT A71L005-14, Revision 01, dated December 11, 2014. The service information describes procedures for doing a one-time torque check to determine if there are any loose or fully broken engine mount pylon bolts at four positions at the forward engine pylon 1 and pylon 2 of Airbus Model A330 series airplanes having Trent 700 engines, doing corrective actions, and reporting all findings.

• Airbus AOT A71L006-14, dated July 22, 2014. The service information describes procedures for doing a one-time torque check to determine if there are any loose or fully broken engine mount pylon bolts at five FWD and four AFT positions at the forward engine pylon 1 and pylon 2 of Airbus Model A330 series airplanes having GE engines, doing corrective actions, and reporting all findings.

• Airbus AOT A71L008-14, Revision 01, dated December 18, 2014. The service information describes procedures for doing a one-time torque check to determine if there are any loose or fully broken engine mount pylon bolts at four positions at the forward engine pylon 1 and pylon 2 of Airbus Model A340 series airplanes having Trent 500 engines, doing corrective actions, and reporting all findings.

This service information is reasonably available because the interested parties have access to it through their normal course of business or by the means identified in the ADDRESSES section of this NPRM.

Other Related Rulemaking

On June 21, 2013, we issued AD 2013-14-04, Amendment 39-17509 (78 FR 68352, November 14, 2013). AD 2013-14-04 requires a torque check of forward engine mount bolts, and replacement if necessary on all Airbus Model A330-223F, -223, -321, -322, and -323 airplanes. AD 2013-14-04 was prompted by a fatigue load analysis that determined that the inspection interval for certain pylon bolts must be reduced. We issued AD 2013-04-04 to detect and correct loose or broken bolts, which could lead to engine detachment in-flight, and damage to the airplane.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Costs of Compliance

We estimate that this proposed AD affects 55 airplanes of U.S. registry.

We also estimate that it would take about 12 work-hours per product to comply with the basic requirements of this proposed AD, and 1 work-hour per product to report torque check findings. The average labor rate is $85 per work-hour. Based on these figures, we estimate the cost of this proposed AD on U.S. operators to be $60,755, or $1,105 per product.

In addition, we estimate that any necessary follow-on actions would take about 20 work-hours and require parts costing $90,200 for a cost of $91,900 per product. We have no way of determining the number of aircraft that might need these actions.

Paperwork Reduction Act

A federal agency may not conduct or sponsor, and a person is not required to respond to, nor shall a person be subject to penalty for failure to comply with a collection of information subject to the requirements of the Paperwork Reduction Act unless that collection of information displays a current valid OMB control number. The control number for the collection of information required by this proposed AD is 2120-0056. The paperwork cost associated with this proposed AD has been detailed in the Costs of Compliance section of this document and includes time for reviewing instructions, as well as completing and reviewing the collection of information. Therefore, all reporting associated with this proposed AD is mandatory. Comments concerning the accuracy of this burden and suggestions for reducing the burden should be directed to the FAA at 800 Independence Ave. SW., Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2015-7533; Directorate Identifier 2015-NM-080-AD.

(a) Comments Due Date

We must receive comments by February 12, 2016.

(b) Affected ADs

None.

(c) Applicability

This AD applies to the Airbus airplanes specified in paragraphs (c)(1) through (c)(5) of this AD, certificated in any category, from manufacturer serial number (MSN) 0715 through MSN 1507 inclusive, and MSN 1509, except airplanes on which all engines have been removed and/or replaced since the date of the first flight of the airplane.

(1) Airbus Model A330-201, -202, -203, -223, and -243 airplanes.

(2) Airbus Model A330-223F and -243F airplanes.

(3) Airbus Model A330-301, -302, -303, -321, -322, -323, -341, -342, and -343 airplanes.

(4) Airbus Model A340-541 airplanes.

(5) Airbus Model A340-642 airplanes.

(d) Subject

Air Transport Association (ATA) of America Code 71, Powerplant.

(e) Reason

This AD was prompted by a report of an under-torqued forward engine mount bolt. We are issuing this AD to detect and correct improperly torqued engine mount bolts, which could lead to detachment of the engine from the airplane during flight; and consequent damage to the airplane and injury to persons on the ground.

(f) Compliance

Comply with this AD within the compliance times specified, unless already done.

(g) Definition of Affected Engine

For the purpose of this AD, an affected engine is an engine that has never been removed and/or replaced since first flight of the airplane.

(h) Action for Airbus Model A330 Airplanes Equipped With Pratt and Whitney (PW) Engines

(1) For Model A330-200, -200 Freighter, and -300 series airplanes equipped with PW engines: At the earlier of the times specified in paragraph (h)(1)(i) and (h)(1)(ii) of this AD, accomplish a one-time torque check of the forward (FWD) and rear (AFT) engine mount bolts on each affected engine, at the locations specified in, and in accordance with the instructions of Section 4.2.2, “Inspection Requirements,” of Airbus Alert Operators Transmission (AOT) A71L004-14, Revision 01, dated April 7, 2014.

(i) Within 2,000 flight hours after the effective date of this AD.

(ii) During the accomplishment of Airbus Service Bulletin A330-71-3028, Revision 01, dated February 20, 2012, if done after the effective date of this AD.

(2) If, during the torque check required by paragraph (h)(1) of this AD, only one FWD bolt is found that rotates: Do the actions specified in paragraph (h)(2)(i), (h)(2)(ii), (h)(2)(iii), or (h)(2)(iv) of this AD, as applicable.

(i) For Model A330-200 and -300 series airplanes with an average flight time of greater than 132 minutes and having accumulated less than 2,350 flight cycles and less than 24,320 flight hours since first flight of the airplane: Before further flight, re-torque the affected bolt, and, within 2,350 flight cycles or 24,320 flight hours since first flight of the airplane, whichever occurs first, replace the 4 bolts and associated nuts, in accordance with the instructions of Section 4.2.3, “Findings,” of Airbus AOT A71L004-14, Revision 01, dated April 7, 2014.

(ii) For Model A330-200 and -300 series airplanes with an average flight time of 132 minutes or lower and having accumulated less than 1,950 flight cycles and less than 20,210 flight hours since first flight of the airplane: Before further flight, re-torque the affected bolt, and within 2,350 flight cycles or 24,320 flight hours since first flight of the airplane, whichever occurs first, replace the 4 bolts and associated nuts, in accordance with the instructions of Section 4.2.3, “Findings,” of Airbus AOT A71L004-14, Revision 01, dated April 7, 2014.

(iii) For Model A330-200 Freighter series airplanes having accumulated less than 2,140 flight cycles and less than 6,600 flight hours since first flight of the airplane: Before further flight, re-torque the affected bolt and within 2,140 flight cycles or 6,600 flight hours since first flight of the airplane, whichever occurs first, replace the 4 bolts and associated nuts, in accordance with the instructions of Section 4.2.3, “Findings,” of Airbus AOT A71L004-14, Revision 01, dated April 7, 2014.

(iv) For airplanes identified in paragraphs (h)(2)(iv)(A), (h)(2)(iv)(B), and (h)(2)(iv)(C) of this AD: Before further flight, replace the 4 bolts and associated nuts in accordance with the instructions of Section 4.2.3, “Findings,” of AOT A71L004-14, Revision 01, dated April 7, 2014.

(A) Model A330-200 and -300 series airplanes with an average flight time of greater than 132 minutes and having accumulated 2,350 flight cycles or more or 24,320 flight hours or more since first flight of the airplane.

(B) Model A330-200 and -300 series airplanes with an average flight time of 132 minutes or lower and having accumulated 1,950 flight cycles or more or 20,210 flight hours or more since first flight of the airplane.

(C) Model A330-200 Freighter series airplanes having accumulated 2,140 flight cycles or more or 6,600 flight hours or more since first flight of the airplane:

(3) If, during the torque check required by paragraph (h)(1) of this AD, two or more FWD bolts are found that rotate: Before further flight, replace the 4 bolts and associated nuts in accordance with the instructions of Section 4.2.3, “Findings,” of Airbus AOT A71L004-14, Revision 01, dated April 7, 2014.

(4) If, during the torque check required by paragraph (h)(1) of this AD, one or more FWD pylon bolts are found fully broken: Before further flight, replace the 4 bolts and associated nuts in accordance with the instructions of Section 4.2.3, “Findings,” of Airbus AOT A71L004-14, Revision 01, dated April 7, 2014, except as required by paragraph (m)(2) of this AD.

(5) If, during the torque check required by paragraph (h)(1) of this AD, only one AFT bolt is found that rotates: Before further flight, re-torque the affected bolt, and replace the 4 bolts and associated nuts at the next engine removal, in accordance with the instructions of Section 4.2.3, “Findings,” of Airbus AOT A71L004-14, Revision 01, dated April 7, 2014.

(6) If, during the torque check required by paragraph (h)(1) of this AD, two or more AFT bolts are found that rotate: Before further flight, replace the 4 bolts and associated nuts in accordance with the instructions of Section 4.2.3, “Findings,” of Airbus AOT A71L004-14, Revision 01, dated April 7, 2014.

(7) If, during the torque check required by paragraph (h)(1) of this AD, one or more AFT pylon bolts are found fully broken: Before further flight, replace the 4 bolts and associated nuts in accordance with the instructions of Section 4.2.3, “Findings,” of Airbus AOT A71L004-14, Revision 01, dated April 7, 2014, except as required by paragraph (m)(2) of this AD.

(i) Concurrent Actions

AD 2013-14-04, Amendment 39-17509 (78 FR 68352, November 14, 2013), requires a torque check of forward engine mount bolts using Airbus Service Bulletin A330-71-3028, Revision 01, dated February 20, 2012. If accomplishing the torque check of FWD engine mount bolts within the compliance times specified in paragraph (g) of the FAA AD 2013-14-04 using Airbus Service Bulletin A330-71-3028, Revision 01, dated February 20, 2012, perform the torque check of the AFT engine mount bolts at the same time.

(j) Action for Airbus Model A330 Airplanes Equipped With General Electric (GE) Engines

(1) For Airbus Model A330-200, -200 Freighter, and -300 series airplanes equipped with GE engines: Within 2,000 flight hours after the effective date of this AD, accomplish a one-time torque check of the FWD and AFT engine mount bolts on each affected engine, at the locations specified in, and in accordance with the instructions of Section 4.2.2, “Inspection Requirements,” of Airbus AOT A71L006-14, dated July 22, 2014.

(2) If, during the torque check required by paragraph (j)(1) of this AD, only one FWD bolt is found that rotates: Do the actions specified in paragraphs (j)(2)(i) and (j)(2)(ii) of this AD, as applicable.

(i) For airplanes that have accumulated less than 4,000 flight cycles and less than 30,800 flight hours since first flight of the airplane: Before further flight, re-torque affected FWD engine mount bolt(s), in accordance with the instructions of Section 4.2.3, “Findings,” of Airbus AOT A71L006-14, dated July 22, 2014, and, within 4,000 flight cycles or 30,800 flight hours since first flight of the airplane, whichever is first, replace the 5 bolts, as applicable, and their associated nuts with new bolts and nuts in accordance with the instructions of Section 4.2.3, “Findings,” of Airbus AOT A71L006-14, dated July 22, 2014.

(ii) For airplanes that have accumulated 4,000 flight cycles or more or 30,800 flight hours or more since first flight of the airplane: Before further flight, replace the 5 FWD engine mount bolts, as applicable, and their associated nuts with new bolts and nuts in accordance with the instructions of Section 4.2.3, “Findings,” of Airbus AOT A71L006-14, dated July 22, 2014.

(3) If, during the torque check required by paragraph (j)(1) of this AD, two or more FWD bolts are found that rotate: Repair before further flight using a method approved in accordance with the procedures specified in paragraph (p)(1) of this AD.

(4) If, during the torque check required by paragraph (j)(1) of this AD, one or more FWD pylon bolts are found fully broken: Repair before further flight using a method approved in accordance with the procedures specified in paragraph (p)(1) of this AD.

(5) If, during the torque check required by paragraph (j)(1) of this AD, only one AFT bolt is found that rotates: Before further flight, re-torque the affected AFT engine mount bolt(s) in accordance with the instructions of Section 4.2.3, “Findings,” of Airbus AOT A71L006-14, dated July 22, 2014, and, at the next engine removal, replace the 4 bolts and associated nuts with new bolts and nuts in accordance with the instructions of Section 4.2.3, “Findings,” of Airbus AOT A71L006-14, dated July 22, 2014.

(6) If, during the torque check required by paragraph (j)(1) of this AD, two or more AFT bolts are found that rotate: Repair before further flight using a method approved in accordance with the procedures specified in paragraph (p)(1) of this AD.

(7) If, during the torque check required by paragraph (j)(1) of this AD, one or more AFT pylon bolts are found fully broken: before further flight, do all applicable corrective actions in accordance with the instructions of Section 4.2.3, “Findings,” of Airbus AOT A71L006-14, dated July 22, 2014, except as required by paragraph (m)(2) of this AD.

(k) Action for Airbus Model A330 Airplanes Equipped With Rolls-Royce (RR) Trent 700 Engines

(1) For Airbus Model A330-200, -200 Freighter, and -300 series airplanes equipped with RR Trent 700 Engines: Within 2,000 flight hours after the effective date of this AD, accomplish a one-time torque check of the FWD and AFT engine mount bolts on each affected engine, at the locations specified in, and in accordance with the instructions of Section 4.2.2, “Inspection Requirements,” of Airbus AOT A71L005-14, Revision 01, dated December 11, 2014.

(2) If, during the torque check required by paragraph (k)(1) of this AD, any discrepancy is detected (one bolt rotates, two or more bolts rotate, or one or more bolts are fully broken): Within the compliance time specified in Airbus AOT A71L005-14, Revision 01, dated December 11, 2014, accomplish all applicable corrective actions in accordance with the instructions of Section 4.2.3, “Findings,” of Airbus AOT A71L005-14, Revision 01, dated December 11, 2014, except as required by paragraphs (m)(1) and (m)(2) of this AD.

(l) Action for Airbus Model A340-541 and -642 Airplanes Equipped With Rolls-Royce Trent 500 Engines

(1) For Airbus Model A340-541 and -642 airplanes equipped with Rolls-Royce Trent 500 Engines: Within 2,000 flight hours after the effective date of this AD, accomplish a one-time torque check of FWD and AFT engine mount bolts on each affected engine, at the locations specified in, and in accordance with the instructions of Section 4.2.2, “Inspection requirements,” of Airbus AOT A71L008-14, Revision 01, dated December 18, 2014.

(2) If, during the torque check required by paragraph (l)(1) of this AD, any discrepancy is detected (one bolt rotates, two or more bolts rotate, or one or more bolts are fully broken): Within the compliance time specified in Airbus AOT A71L008-14, Revision 01, dated December 18, 2014, accomplish all applicable corrective actions, in accordance with the instructions of Section 4.2.3, “Findings,” of Airbus AOT A71L008-14, Revision 01, dated December 18, 2014, except as required by paragraphs (m)(1) and (m)(2) of this AD.

(m) Service Information Exceptions

(1) Where Airbus AOTs A71L005-14, Revision 01, dated December 11, 2014; A71L006-14, dated July 22, 2014; and A71L008-14, dated September 29, 2014, specify to contact Airbus for further actions, before further flight, repair using a method approved by the Manager, International Branch, ANM-116, Transport Airplane Directorate, FAA; or the European Aviation Safety Agency (EASA); or Airbus's EASA Design Organization Approval (DOA).

(2) Where Airbus AOT A71L004-14, Revision 01, dated April 7, 2014; AOT A71L005-14, Revision 01, dated December 11, 2014; AOT A71L006-14, dated July 22, 2014; and AOT A71L008-14, Revision 01, dated December 18, 2014, specify actions “if one pylon bolt fully broken,” this AD requires that those actions be done if one or more pylon bolt is found fully broken during any torque check required by paragraph (h)(1), (j)(1), (k)(1) or (l)(1) of this AD.

(n) Reporting

At the applicable time specified in paragraphs (n)(1) and (n)(2) of this AD: After accomplishment of any torque check required by paragraphs (h), (j), (k), and (l) of this AD, report all inspection results to Airbus, including no findings, in accordance with the “Reporting” section of the applicable service information specified in paragraphs (h), (j), (k), and (l) of this AD.

(1) If the torque check was done on or after the effective date of this AD: Submit the report within 30 days after the torque check.

(2) If the torque check was done before the effective date of this AD: Submit the report within 30 days after the effective date of this AD.

(o) Credit for Previous Actions

(1) This paragraph provides credit for the actions required by paragraph (h) of this AD, if those actions were performed before the effective date of this AD using Airbus AOT A71L004-14, dated April 1, 2014 (for Airbus Model A330 Airplanes Equipped with Pratt and Whitney Engines), which is not incorporated by reference in this AD.

(2) This paragraph provides credit for the actions required by paragraph (k) of this AD, if those actions were performed before the effective date of this AD using Airbus AOT A71L005-14, dated September 29, 2014 (for Airbus Model A330 Airplanes Equipped with Rolls-Royce Trent 700 Engines), which is not incorporated by reference in this AD.

(3) This paragraph provides credit for the actions required by paragraph (l) of this AD, if those actions were performed before the effective date of this AD using Airbus AOT A71L008-14, dated September 29, 2014 (for Airbus Model A340 Airplanes Equipped with Rolls-Royce Trent 500 Engines), which is not incorporated by reference in this AD.

(p) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(q) Related Information

(1) Refer to Mandatory Continuing Airworthiness Information (MCAI) EASA Airworthiness Directive 2015-0082, dated May 11, 2015, for related information. This MCAI may be found in the AD docket on the Internet at http://www.regulations.gov by searching for and locating Docket No. FAA-2015-7533.

(2) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this service information at the FAA, Transport Airplane Directorate, 1601 Lind Avenue SW., Renton, WA. For information on the availability of this material at the FAA, call 425-227-1221.

Issued in Renton, Washington, on December 18, 2015.
Jeffrey E. Duven,
Manager, Transport Airplane Directorate, Aircraft Certification Service.

[FR Doc. 2015-32547 Filed 12-28-15; 8:45 am]

BILLING CODE 4910-13-P